DEPARTMENT OF ENERGY

Federal Energy Regulatory Commission

[Docket Nos. AD22-11-000; AD21-9-000]

Office of Public Participation Fundamentals for Participating in FERC Matters; Notice of Video Workshop: “WorkshOPP on FERC's Role in Regulating the Construction and Restoration of Interstate Natural Gas Transmission Pipeline Projects”

The Office of Public Participation's (OPP) “WorkshOPP on FERC's Role in Regulating the Construction and Restoration of Interstate Natural Gas Transmission Pipeline Projects” video is now available. The WorkshOPP outlines FERC staff's oversight role during the construction and restoration phases of interstate natural gas transmission pipeline projects and associated facilities. The video provides an overview of post-certificate reviews, staff's efforts to ensure environmental compliance during construction, restoration of affected lands, and publicly available resources for landowners and concerned citizens.

The video is available on FERC's YouTube channel under OPP's Playlist at https://www.youtube.com/@FERC/playlists. It includes captioning in English and Spanish and is compliant with section 508 of the Rehabilitation Act of 1973.

OPP supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 4, 2024.
Carlos D. Clay,
Acting Deputy Secretary.

[FR Doc. 2024-28962 Filed 12-9-24; 8:45 am]

BILLING CODE 6717-01-P